DEPARTMENT OF VETERANS AFFAIRS

Notice of Intent To Prepare an Integrated Environmental Impact Statement for the Department of Veterans Affairs, Black Hills Health Care System Proposed Improvements and Reconfiguration, Hot Springs and Rapid City, South Dakota; Comment Period Extension

AGENCY: Department of Veterans Affairs (VA).

ACTION: Notice of intent; Comment period extension.

SUMMARY: The Department of Veterans Affairs (VA) published, in the Federal Register on May 16, 2014, the Notice of Intent to prepare an integrated environmental impact statement (EIS) for the proposed improvements to and reconfiguration of the VA Black Hills Health Care System (VA BHHCS) services in the Hot Springs and Rapid City, South Dakota vicinities. Due to public request and the unavailability of the regulations.gov public comment Web site, the comment period for the scoping process has been extended from June 16, 2014 to August 16, 2014.

DATES: Public comments must be received by August 16, 2014.

ADDRESSES: Submit written comments on VA's notice of intent to prepare an integrated EIS through www.Regulations.gov or vablackhillsfuture@va.gov. Please refer to: “VA BHHCS Notice of Intent to Prepare an Integrated EIS”. Comments may also be submitted to Staff Assistant to the Director, VA Black Hills Health Care System, 113 Comanche Rd., Fort Meade, SD 57741.

FOR FURTHER INFORMATION CONTACT: Staff Assistant to the Director, VA BHHCS, at the address above or by telephone, 605-720-7170. Documents related to the VA BHHCS proposed reconfiguration will be available for viewing on the VA BHHCS Web site: http://www.blackhills.va.gov/VABlackHillsFuture/.

Correction: In the Federal Register of May 16, 2014 in FR Doc. 2014-11316, on page 28603, in the second column, correct the DATES caption to read:

DATES: With the publication of this notice, VA is initiating the scoping process to identify issues and concerns to be addressed in the integrated EIS. Federal, state, and local agencies, environmental organizations, businesses, other interested parties and the general public are encouraged to submit their written comments identifying specific issues or topics of environmental concern that should be addressed. VA will hold two or more public scoping meetings within the VA BHHCS service area; the dates, times, and locations of which will be announced and published at least 14 days prior to the meetings. All written comments on the proposal should be submitted by August 16, 2014. VA will consider all comments received during the 90-day public comment period in determining the scope of the integrated EIS.

Extension: The public comment period for the scoping process for the integrated environmental impact statement for the proposed improvements to and reconfiguration of the VA Black Hills Health Care System services in the Hot Springs and Rapid City, South Dakota vicinities has been extended from June 16, 2014 to August 16, 2014.

Signing Authority

The Secretary of Veterans Affairs, or designee, approved this document and authorized the undersigned to sign and submit the document to the Office of the Federal Register for publication electronically as an official document of the Department of Veterans Affairs. Jose D. Riojas, Chief of Staff, Department of Veterans Affairs, approved the Notice of Intent on May 6, 2014, for publication.

Robert C. McFetridge,
Director of Regulations Policy and Management, Office of the General Counsel, Department of Veterans Affairs.

[FR Doc. 2014-13840 Filed 6-12-14; 8:45 am]

BILLING CODE 8320-01-P